ENVIRONMENTAL PROTECTION AGENCY

[FRL-9699-7]

Notification of Public Teleconferences of the Science Advisory Board Animal Feeding Operations Emission Review Panel

AGENCY: Environmental Protection Agency (EPA).

ACTION: Notice.

SUMMARY: The Environmental Protection Agency (EPA or Agency) Science Advisory Board (SAB) Staff Office announces two public teleconferences of the SAB Animal Feeding Operations Emission Review Panel (AFO Panel) to discuss additional EPA data and the Panel's draft advisory report regarding EPA draft methodologies for estimating emissions from animal feeding operations.

DATES: The SAB AFO Panel public teleconference will be held on August 13, 2012, from 1:00 p.m. to 5:00 p.m. (Eastern Time). The follow-up public teleconference of the SAB AFO Panel will be held on October 24, 2012, from 1:00 p.m. to 5:00 p.m. (Eastern Time).

ADDRESSES: The public teleconferences will be conducted by telephone only.

FOR FURTHER INFORMATION CONTACT: Any member of the public wishing further information regarding the public teleconferences may contact Mr. Edward Hanlon, Designated Federal Officer (DFO), SAB Staff Office, by telephone/voice mail at (202) 564-2134 or via email at hanlon.edward@epa.gov. General information concerning the EPA Science Advisory Board can be found at the EPA SAB Web site at http://www.epa.gov/sab.

SUPPLEMENTARY INFORMATION: Background: The SAB was established pursuant to the Environmental Research, Development, and Demonstration Authorization Act (ERDAA) codified at 42 U.S.C. 4365, to provide independent scientific and technical peer review, advice, consultation and recommendations to the EPA Administrator on the technical basis for EPA actions. As a Federal Advisory Committee, the SAB conducts business in accordance with the Federal Advisory Committee Act (FACA) (5 U.S.C. App. 2) and related regulations. Pursuant to FACA and EPA policy, notice is hereby given that the SAB AFO Panel will hold a public teleconference to review additional data and a public teleconference to discuss the Panel's draft advisory report regarding the EPA documents, “Draft—Development of Emissions Estimating Methodologies for Broiler Animal Feeding Operations” and “Draft—Development of Emissions Estimating Methodologies for Lagoons and Basins at Swine and Dairy Animal Feeding Operations” (February 2012 draft). The SAB Panel will provide advice through the chartered SAB and will comply with the provisions of FACA and all appropriate SAB Staff Office procedural policies.

Background information about this SAB review can be found on the SAB Web site at: http://yosemite.epa.gov/sab/sabproduct.nsf/0/AE6639DD6B79360E852579A4004E5529?OpenDocument. The SAB AFO Panel previously held a public meeting on March 14, 15 and 16, 2012 to discuss its review comments on the EPA Animal Feeding Operations emissions documents.

Technical Contacts: For technical questions and information concerning EPA's air emission estimating methodologies for animal feeding operations, please contact Mr. Larry Elmore of EPA's Office of Air Quality Planning and Standards by phone at (919) 541-5433, or via email at elmore.larry@epa.gov.

Availability of the Review Materials: The agenda and material in support of these teleconference calls will be accessible through the calendar link on the blue navigation bar at http://www.epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it consists of comments that provide specific scientific or technical information or analysis for the SAB Panel to consider or if it relates to the clarity or accuracy of the technical information. Members of the public wishing to provide comment should contact the DFO directly.

Oral Statements: In general, individuals or groups requesting an oral presentation will be limited to three minutes per speaker. Interested parties should contact Mr. Edward Hanlon, DFO, in writing (preferably via email), at the contact information noted above, by August 6, 2012 to be placed on the list of public speakers for the August 13, 2012 teleconference, and by October 17, 2012 to be placed on the list of public speakers for the October 24, 2012 teleconference. Written Statements: Written statements should be received in the SAB Staff Office by August 6, 2012 for the August 13, 2012 teleconference, and by October 17, 2012 for the October 24, 2012 teleconference, so that the information may be made available to the Panel members for their consideration. Written statements should be supplied to the DFO in electronic format via email (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Mr. Edward Hanlon at (202) 564-2134 or via email at hanlon.edward@epa.gov, preferably at least ten days prior to the public teleconference(s) to give EPA as much time as possible to process your request.

Dated: July 3, 2012.
Vanessa T. Vu,
Director, EPA Science Advisory Board Staff Office.

[FR Doc. 2012-17027 Filed 7-11-12; 8:45 am]

BILLING CODE 6560-50-P